POSTAL REGULATORY COMMISSION

[Docket No. C2009-1; Order No. 9214]

Complaint

AGENCY: Postal Regulatory Commission.

ACTION: Notice.

SUMMARY: The Commission is providing notice that the Postal Service has moved to transfer the Complainants' request to publicly disclose all non-public documents filed in Docket No. C2009-1 from Docket No. C2024-13 to Docket No. C2009-1 and to extend the period to respond to the request. This document grants the Postal Service's motion and establishes a new deadline to respond to the Complainants' request.

DATES: Responses to the request to publicly disclose all non-public documents are due: October 17, 2025.

ADDRESSES: Documents can be accessed electronically through the Commission's website at https://www.prc.gov.

FOR FURTHER INFORMATION CONTACT: David A. Trissell, General Counsel, at 202-789-6820.

SUPPLEMENTARY INFORMATION: On August 1, 2025, Complainants filed a request pursuant to 39 CFR 3011.401 for the Commission to publicly disclose all non-public documents in Docket No. C2009-1.¹ After the deadline to respond to the Request was extended once, the Postal Service submitted several filings including a motion for a further extension of the response deadline.² For the reasons that follow, the Motion for Further Extension is granted.

¹ Docket No. C2024-13, Motion to make entire C2009-1 (GameFly) docket public per 3011.401, August 1, 2025 (Request). Complainants subsequently filed an erratum to the Request correcting a regulatory cite. See Docket No. C2024-13, Motion to make entire C2009-1 (GameFly) docket public per 3011.401—erratum, August 4, 2025.

² United States Postal Service Motion for Further Extension of Time to Respond to Complainants' Motion to Make Entire C2009-1 (Gamefly) Docket Public per 3011.401, September 19, 2025 (Motion for Further Extension).

In its Motion for Further Extension, the Postal Service asserts that a further extension of 4 weeks to the deadline to respond to the Request is necessary to allow it to review the over 500 pages of documents from Docket No. C2009-1 that it has not yet reviewed, as well as any documents it has not yet been able to locate. Motion for Further Extension at 2. 39 CFR 3011.401(c) allows the Commission to prescribe the amount of time under which parties may oppose a request to publicly disclose non-public documents.³ The Commission agrees that an extension is warranted to allow the Postal Service to fully review the requested materials. Further, for the reasons stated by the Postal Service in its original motion for extension, the Commission agrees that neither the procedural schedule nor Complainants will be prejudiced by an extension.⁴ Finally, the Commission notes that Complainants do not object to a further extension.⁵ As such, the Commission will extend the time for interested parties to submit a substantive response to the Request until October 17, 2025.

³ See 39 CFR 3011.401(c) (emphasis added) (stating that “[a] response to the request is due within seven calendar days of the filing of the request, unless the Commission otherwise provides.”).

⁴ See Docket Nos. C2024-13 and C2009-1, United States Postal Service Motion to Transfer and Additional Submissions Related to Complainants' “Motion to Make Entire C2009-1 (Gamefly) Docket Public Per 3011.401,” August 8, 2025, at 6-11; see also 39 CFR 3010.162(c) (stating that a motion for extension “shall only be granted upon consideration of the potential adverse impact, if any, on other participants and the overall impact on the procedural schedule.”).

⁵ See Requesters' Reply to USPS' “First” and “Second” Oppositions to Making the Record in C2009-1 Public, September 24, 2025, at 1 n.2 (noting that Complainants “take no position on” the Motion for Further Extension).

It is ordered:

1. The United States Postal Service Motion for Further Extension of Time to Respond to Complainants' Motion to Make Entire C2009-1 (Gamefly) Docket Public per 3011.401, filed September 19, 2025, is granted.

2. Responses, pursuant to 39 CFR 3011.401(c), to Complainants' Motion to Make Entire C2009-1 (Gamefly) Docket Public Per 3011.401, filed August 1, 2025, shall be filed on or before October 17, 2025.

3. The Secretary shall arrange for publication of this order in the Federal Register.

Erica A. Barker,
Secretary.

[FR Doc. 2025-19294 Filed 10-1-25; 8:45 am]

BILLING CODE 7710-FW-P